OFFICE OF PERSONNEL MANAGEMENT

Submission for Review: Questionnaire for National Security Positions, SF 86

AGENCY: U.S. Office of Personnel Management.

ACTION: 30-Day Notice and request for comments.

SUMMARY: The Federal Investigative Services Division (FISD), U.S. Office of Personnel Management (OPM) offers the general public and other Federal agencies the opportunity to comment on an information collection request (ICR), Office of Management and Budget (OMB) Control No. 3206-0005, for the General Request for the Questionnaire for National Security Positions, (SF 86). As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until October 30, 2009. This process is conducted in accordance with 5 CFR part 1320.

ADDRESSES: Interested persons are invited to submit written comments on the proposed information collection to the FISD, OPM, 1900 E. Street, NW., Room 2H31, Washington, DC 20415, Attention: MaryKay Brewer or sent via electronic mail to SFRevisionComments@opm.gov; and Jasmeet K. Seehra, OMB Desk Officer, Office of Information and Regulatory Affairs, Office of Management and Budget, New Executive Office Building, 725 17th Street, NW., Room 10235, Washington, DC 20503.

FOR FURTHER INFORMATION CONTACT: A copy of this ICR, with applicable supporting documentation, and/or a copy of the Change Matrix described in the SUPPLEMENTARY INFORMATION, below, may be obtained by contacting the FISD, OPM, 1900 E. Street, NW., Washington, DC 20503, Attention: MaryKay Brewer or sent via electronic mail to MaryKay.Brewer@opm.gov.

SUPPLEMENTARY INFORMATION: This notice announces that OPM submitted to OMB a request for review and clearance of the revised collection of information, Questionnaire for National Security Positions SF 86 (OMB Control No. 3206-0005), which includes e-QIP (Electronic Questionnaires for Investigations Processing).

Previously, OPM requested OMB review and clear a suite of investigative forms that were packaged under OMB Control No. 3206-0005 and included the Questionnaire for National Security Positions, SF 86. Due to the continuing Executive and congressional interest in improving and streamlining the processes by which security clearances are granted, OMB has granted a request by OPM to review and clear the various expiring investigative forms separately so as to move forward at this time with the Questionnaire for National Security Positions, SF 86.

The SF 86 will be used by the U.S. Government in conducting background investigations, reinvestigations, and continuous evaluations, as appropriate, of persons under consideration for or retention in national security positions as defined in 5 CFR part 732 and for positions requiring eligibility for access to classified information under Executive Order 12968. This form may also be used by agencies in determining whether a subject performing work for or on behalf of the Government under a contract should be deemed eligible for logical or physical access when the nature of the work to be performed is sensitive and could bring about an adverse effect on the national security. It is estimated that 21,800 non-Federal individuals will complete the SF 86 annually. Each form takes approximately 150 minutes to complete. The estimated annual burden is 54,500 hours. e-QIP is a Web-based system application that currently houses an electronic version of the SF 86. This Internet data collection tool provides faster processing time and immediate data validation to ensure accuracy of the respondent's personal information. The e-Government initiative mandates that agencies utilize e-QIP for all investigations and reinvestigations. A variable in assessing burden hours is the nature of the electronic application. The electronic application includes branching questions and instructions which provide for a tailored collection from the respondent based on varying factors in the respondent's personal history. The burden on the respondent is reduced when the respondent's personal history is not relevant to a particular question, since the question branches, or expands for additional details, only for those persons who have pertinent information to provide regarding that line of questioning. As such, the burden on the respondent will vary depending on whether the information collection relates to the respondent's personal history. Additionally, once entered, a respondent's complete and certified investigative data remain secured in the e-QIP system until the next time the respondent is sponsored by an agency to complete a new investigative form. Upon initiation, the respondent's previously entered data (except `yes/no' questions) will populate a new investigative request and the respondent will be allowed to update their information and certify the data. In this instance, time to complete the form is reduced significantly.

The 60-day Federal Register Notice was published June 23, 2008 (Volume 73, Number 121, pages 35421-35422). The notice proposed to change the SF 86 to specify continuous evaluation as a purpose of the form and a part of the investigative process. The “Authorization for Release of Information” was amended to acknowledge that the information provided may be used to conduct officially sanctioned and approved personnel security-related research and studies. The authorization language was amended to change the period the authorization remains in effect from (up to) five years to an unspecified period so long as the respondent remains employed in a sensitive position requiring access to classified information. The Fair Credit Reporting Disclosure and Authorization Form was made part of the proposed SF 86 as required under OMB Terms of Clearance. It is important to note that at the time the Federal Register notice was posted in June 2008, agencies were still utilizing the 1995 version of the form as the version in use today had not yet been implemented.

The following Federal agencies, agency components and multi-agency working groups made comments during the public comment period following the 60-day Notice: Social Security Administration, Joint Security and Suitability Reform Team (JRT), Department of Housing and Urban Development, Department of Health and Human Services, U.S. Agency for International Development, Department of Homeland Security (DHS), Central Intelligence Agency, Department of Transportation, Director of National Intelligence (DNI), Department of State (DOS), Department of State Mental Health Services, Federal Bureau of Investigation, Defense Personnel Security Research Center, Department of Energy (DOE), and internal commentators from the U.S. Office of Personnel Management (OPM). OPM internal commentators mostly focused on administrative issues related to the formatting of the instructions and layout of the questions on the former paper collection. Most comments from agencies other than the JRT focused on changes to the collection of mental health treatment information relative to treatment resulting from service in a military combat environment. The JRT comments focused on collecting from the respondent more accurate and relevant information of investigative and adjudicative significance earlier in the investigative process, to wit at the time the respondent completes the form, and the JRT recommended expanded branching questions in most sections of the form to collect additional details.

A 30-day Federal Register Notice was published December 31, 2008 (Volume 73, Number 251, pages 80445-80447). This notice proposed an SF 86 that incorporated the significant and substantial changes to the lines of questioning recommended in the comments by the JRT. Section 9, Citizenship, was changed to collect additional information that will assist in verifying citizenship of respondents born outside of the U.S. Branching questions inserted after each response tailored the elicitation of information to the respondent's personal history. Section 10, Dual/Multiple Citizenship, was expanded to include broader questions designed to elicit information pertinent to the adjudicative guideline for Foreign Preference. At Section 11, Where You Have Lived, branching questions replaced detailed instructions for all respondents and instead tailored the collection to elicit information based on the respondent's relevant personal history. Additional contact information for the residence reference was added to assist investigation. At Section 12, Where You Went To School, the instructions were changed to require 7 years of information vice 10 regarding certain educational activities and the verbiage was changed regarding listing degrees or diplomas received more than 7 years ago to be consistent with changes to the investigative standards. At Section 13a, Employment Activities, branching questions were added to reduce detailed instructions for all respondents and tailor instructions as applicable to the respondent. “Code 9—Non-government employment (excluding self-employment)” was added to the employment types for clarity. Additionally, branching questions for foreign addresses and contacts were added to assist investigation. At Section 13c, Employment Record, branching questions were added to prompt the applicant to enter the required information following each positive response, thereby simplifying the detailed instructions previously necessary. The requirement to specify whether the respondent was laid off from a job was deleted as this information was not pertinent to the adjudicative guidelines regarding personal conduct and handling protected information that drive the Employment Record section. At Section 15, Military Service, branching questions were added to collect more specific details pertinent to the Personal Conduct and Criminal Conduct adjudicative guidelines. Branching question were added to elicit more information regarding foreign military service to obtain information pertinent to the adjudicative guidelines for Foreign Influence and Foreign Preference. At Section 16, People Who Know You Well, branching questions were added to clarify and collect additional information pertaining to the references. At Section 17, instructions were branched to assist investigations, and the definition of “cohabitant” was clarified. Section 18 was reformatted for branching questions and “Visa” was added to the listing of types of documentation to support investigation. At Section 19, Foreign Activities, “influence” replaced “common interests” for clarity regarding relationships with foreign nationals. Branching questions were added to obtain additional information pertaining to foreign connections and the approximate frequency of contact to support the Foreign Influence adjudicative guideline. At Section 20, additional questions regarding foreign financial activities, foreign real estate, and receipt of benefits from a foreign country, including questions concerning the subject's immediate family members, were added to elicit information pertinent to the Foreign Influence guideline. Additional questions regarding foreign employment, business ventures, travel, and foreign government contacts, including questions concerning the subject's immediate family members, were added to elicit information pertinent to the Foreign Influence, Foreign Preference, and Outside Activities adjudicative guidelines. At Question 21, additional branching questions were added to elicit information regarding mental health conditions and treatment pertinent to the adjudicative guideline for Psychological Conditions, including questions about counseling or treatment providers, whether treatment was on an in-patient basis, whether admission was voluntary, and whether the subject was ever adjudicated as mentally incompetent. At Section 22, Police Record, branching questions were added to inquire about the disposition of criminal proceedings, and to inquire about offenses related to firearms, explosives, alcohol and drugs for a 7 year period vice an unlimited period pertaining to the respondent's entire life. At Section 23, Illegal Use of Drugs or Drug Activity, questions were added regarding intent of future use and drug treatment pertinent to the adjudicative guideline for Drug Involvement. The requirement to report possession of drugs was replaced with a broader collection requiring reporting of illegal purchase. At Section 24, Use of Alcohol, questions were branched to further identify actions taken by applicant to pursue and/or complete recommended counseling/treatment and to elicit pertinent information regarding the adjudicative guideline for Alcohol Consumption. At Section 25, Investigations and Clearance Record, branching questions were added to elicit information necessary for investigation to obtain relevant prior records and to elicit information potentially connected to the adjudicative guideline for Handling Protected Information. Additionally, questions regarding investigations by foreign governments were added to elicit information pertinent to the adjudicative guideline for Foreign Preference. At Section 26, Financial Record, branching questions were added to elicit specific detailed information pertaining to each financial area instead of an open text field for respondents to provide explanation. The time frame for reporting delinquencies on any debt was changed to 120 days, instead of 180 days for prior debts and 90 days for current debts. A question was added regarding involvement with a credit counseling service to support the adjudicative guideline for Financial Considerations. At Section 28, Involvement in Non-Criminal Court Actions, the time period respondents are required to report was changed to the last 7 years vice 10. At Section 29, Association Record, branching questions were added to collect detailed information versus providing a blank area for explanation. The Certification Statement was amended to remove verbiage regarding security clearance to clarify penalties for incomplete or inaccurate statements. On the medical release, a question was added to obtain the “dates of the treatment” pertinent to the adjudicative guideline for Psychological Conditions.

The following Federal agencies, agency components and multi-agency working groups made comments during the public comment period following the December 2008 30-day Notice: DHS, DNI, JRT, Office of the Under Secretary of Defense (Intelligence) (USDI), Department of the Interior, DOE, OPM, National Security Agency, and an e-Application Content Working Group (ECWG) comprised of representatives from OPM, DOS, FBI, National Geospatial-Intelligence Agency (NGA), DHS, Department of the Air Force, National Reconnaissance Office (NRO), National Security Agency (NSA), Defense Security Service (DSS), and Office of the Secretary of Defense General Counsel (OSDGC). DHS, DOE, USDI, OPM, DoD, and ECWG made comments regarding the collection of mental health treatment information relative to treatment resulting from service in a military combat environment. The ECWG made numerous comments recommending improvements to the formatting of questions for clarity, as well as recommendations to more clearly specify that the time periods being asked about for certain questions pertain to the respondent's whole life. For certain questions, such as those regarding foreign countries visited and contact with foreign nationals, the ECWG recommended the required response period be expanded to “ever” rather than 7 years. The ECWG recommended the section on Use of Information Technology expand to collect information regarding “attempts” at misconduct in addition to actual conduct. The vast majority of comments from the JRT were formatting recommendations for the purpose of clarity and, where possible, to align common language from other investigative forms where the meaning and intent are identical.

Following the public comment period, the Acting Director, OPM, requested that OMB permit OPM to withdraw the proposed revisions to the suite of forms, including the SF 86, then pending before OMB for clearance, a request that OMB granted February 23, 2009, in order to provide the current Administration's officials at OPM and other concerned agencies the opportunity to review the collection and propose revisions as necessary based on their review. OPM and OMB pursued a multi-agency review together with the Department of Justice, Department of Defense, and Director of National Intelligence. The proposed SF 86 resulting from that review is the basis for this 30-day notice and request for comments. The review resulted in the following changes to the SF 86 proposed in the December 31, 2008 30-day notice: Language was added to provide additional clarity regarding the penalties for incomplete and/or inaccurate statements. Language was added to clarify that the form may also be used by agencies in determining whether a subject performing work for or on behalf of the Government under a contract should be deemed eligible for logical or physical access when the nature of the work to be performed is sensitive and could bring about an adverse effect on the national security. Language referencing immunity protections was added to the questions regarding illegal use of drugs or drug activity, use of information technology systems, and association record. Questions were added to the section on police record in order to identify respondents who may be impacted by the restrictions cited in the Lautenberg Amendment. The advisement regarding mental health counseling was expanded to explain that mental health counseling in and of itself is not a reason to revoke or deny eligibility for access to classified information or for a sensitive position, suitability or fitness to obtain or retain Federal employment, fitness to obtain or retain contract employment, or eligibility for physical or logical access to Federally controlled facilities or information systems. Questions that elicited the reason for and nature of mental health treatment were removed, as were questions regarding participation in self-help groups for alcohol abuse. In the financial record section, the question regarding involvement with a credit counseling service was amended to better capture mitigating information from respondents who seek assistance to resolve financial difficulties. A question on holding foreign political office and voting in foreign elections was moved from the form's association record section to the form's foreign activities section.

To provide additional clarity, a copy of a matrix, “Changes between Current Form and proposed Sep 09 30-day Notice,” that shows the changes between the currently approved SF 86 and the SF 86 proposed in this 30-day notice, is available upon request.

John Berry,
Director, U.S. Office of Personnel Management.

[FR Doc. E9-23711 Filed 9-29-09; 8:45 am]

BILLING CODE 6325-53-P